FEDERAL COMMUNICATIONS COMMISSION

47 CFR Part 2

[ET Docket Nos. 10-236 and 06-155; FCC 13-15]

Radio Experimentation and Market Trials—Streamlining Rules

AGENCY: Federal Communications Commission.

ACTION: Final rules; announcement of effective date.

SUMMARY: In this document, the Commission announces that the Office of Management and Budget (OMB) has approved, for a period of three years, the information collection requirements contained in the regulations in the Radio Experimentation and Market Trials—Streamlining Rules. The information collection requirements were approved on June 9, 2014 by OMB.

DATES: The amendments to 47 CFR 2.803(c)(2), published at 78 FR 25138, April 29, 2013, are effective July 11, 2014.

FOR FURTHER INFORMATION CONTACT: For additional information contact Nancy Brooks on (202) 418-2454 or via email to: Nancy.Brooks@fcc.gov.

SUPPLEMENTARY INFORMATION: This document announces that on June 9, 2014, OMB approved, for a period of three years, the information collection requirements contained in 47 CFR 2.803(c)(2). The Commission publishes this document to announce the effective date of this rule section. See, In the Matter of Promoting Expanded Opportunities for Radio Experimentation and Market Trials under Part 5 of the Commission's Rules and Streamlining Other Related Rules, ET Docket No. 10-236; and 2006 Biennial Review of Telecommunications Regulations—Part 2 Administered by the Office of Engineering and Technology ET Docket Nos. 06-155, FCC 13-15, 78 FR 25138, April 29, 2013.

Synopsis

As required by the Paperwork Reduction Act of 1995, (44 U.S.C. 3507), the Commission is notifying the public that it received OMB approval on June 9, 2014, for the information collection requirement contained in 47 CFR 2.803(c)(2). Under 5 CFR 1320, an agency may not conduct or sponsor a collection of information unless it displays a current, valid OMB Control Number.

No person shall be subject to any penalty for failing to comply with a collection of information subject to the Paperwork Reduction Act that does not display a valid OMB Control Number.

The OMB Control Number is 3060-0773 and the total annual reporting burdens for respondents for this information collection are as follows:

OMB Control Number: 3060-0773.

OMB Approval Date: 6/9/2014.

OMB Expiration Date: 6/30/2017.

Title: Section 2.803 Marketing of RF Devices Prior to Equipment Authorization.

Form Number: Not applicable.

Type of Review: Revision of a currently approved collection.

Respondents: Businesses or other for-profit.

Number of Respondents: 10,000 respondents; 10,000 responses.

Estimated Time per Response: 0.5 hours.

Frequency of Response: One time reporting requirement and third party disclosure requirement.

Obligation to Respond: Required to obtain or retain benefits. Statutory authority for this information collection is contained in 47 U.S.C. 154(i), 302, 303, 303(r), and 307.

Total Annual Burden: 5,000 hours.

Total Annual Costs: N/A.

Nature and Extent of Confidentiality: There is no need for confidentiality.

Privacy Act Impact Assessment: N/A.

Needs and Uses: On January 31, 2013, the Commission adopted a Report and Order, ET Docket Nos. 10-236 and 06-155, FCC 13-15, which revised the rules in § 2.803(c)(2) to include limited marketing activities prior to equipment authorization.

The Commission has established rules for the marketing of radio frequency (RF) devices prior to equipment authorization under guidelines in 47 CFR 2.803. The general guidelines in § 2.803 prohibit the marketing or sale of such equipment prior to a demonstration of compliance with the applicable equipment authorization and technical requirements in the case of a device subject to verification or Declaration of Conformity without special notification. Section 2.803(c)(2) permits limited marketing activities prior to equipment authorization, for devices that could be authorized under the current rules; could be authorized under waivers of such rules that are in effect at the time of marketing; or could be authorized under rules that have been adopted by the Commission but that have not yet become effective. These devices may be not operated unless permitted by § 2.805.

The following general guidelines apply for third party notifications: (a) A RF device may be advertised and displayed at a trade show or exhibition prior to a demonstration of compliance with the applicable technical standards and compliance with the applicable equipment authorization procedure provided the advertising and display is accompanied by a conspicuous notice specified in §§ 2.803(c)(2)(iii)(A) or 2.803(c)(2)(iii)(B).

(b) An offer for sale solely to business, commercial, industrial, scientific, or medical users of an RF device in the conceptual, developmental, design or pre-production stage prior to demonstration of compliance with the equipment authorization regulations may be permitted provided that the prospective buyer is advised in writing at the time of the offer for sale that the equipment is subject to FCC rules and that the equipment will comply with the appropriate rules before delivery to the buyer or centers of distribution.

(c) Equipment sold as evaluation kit may be sold to specific users with notice specified in § 2.803(c)(2)(iv)(B).

The information to be disclosed about marketing of the RF device is intended:

(1) To ensure the compliance of the proposed equipment with Commission rules; and

(2) To assist industry efforts to introduce new products to the marketplace more promptly.

The information disclosure applies to a variety of RF devices that:

(1) Is pending equipment authorization or verification of compliance;

(2) May be manufactured in the future;

(3) May be sold as kits; and

(4) Operates under varying technical standards.

The information disclosed is essential to ensuring that interference to radio communications is controlled.

Federal Communications Commission.
Marlene H. Dortch,
Secretary.

[FR Doc. 2014-15877 Filed 7-10-14; 8:45 am]

BILLING CODE 6712-01-P